DEPARTMENT OF AGRICULTURE

Commodity Credit Corporation

7 CFR Part 1435

RIN 0560-AH08

Flexible Marketing Allotments for Sugar

AGENCIES: Commodity Credit Corporation, USDA.

ACTION: Final rule; correction.

SUMMARY: This document corrects a final rule published on July 1, 2004 that amended the sugar marketing allotment regulations with respect to processors' marketings of sugar, the permanent termination of processor operations, processors purchasing assets of another processor, processors sharing allocations among producers, appeals, and other related matters. A correction is needed to clarify a provision regarding transfers of allocations.

DATES: Effective July 1, 2004.

FOR FURTHER INFORMATION CONTACT: Barbara Fecso, Dairy and Sweeteners Analysis, Economic and Policy Analysis Staff, Farm Service Agency (FSA), United States Department of Agriculture (USDA), Stop 0516, 1400 Independence Ave., SW., Washington, DC 20250-0516. Phone: (202) 720-4146. E-mail: barbara.fecso@usda.gov. Persons with disabilities who require alternative means for communication (Braille, large print, audio tape, etc.) should contact the USDA Target Center at (202) 720-2600 (voice and TDD).

SUPPLEMENTARY INFORMATION: This publication corrects the final rule published in the Federal Register on July 1, 2004 (69 FR 39811) that amended the sugar marketing allotment regulations at 7 CFR 1435 with respect to processors' marketings of sugar, the permanent termination of processor operations, processors purchasing assets of another processor, processors sharing allocations among producers, appeals, and other related matters. The correction clarifies section 1435.308(b) to correspond more closely with previous regulatory language and thus avoid possible confusion.

List of Subjects

7 CFR Part 1435

Loan programs—agriculture, Price support programs, Reporting and record keeping requirements, and Sugar.

Accordingly, 7 CFR part 1435 is corrected by making the following correcting amendments:

PART 1435—SUGAR PROGRAM

1. The authority citation for part 1435 continues to read as follows:

Authority: 7 U.S.C. 1359aa-1359jj and 7272 et seq.; 15 U.S.C. 714b and 714c.

2. Paragraph (b)introductory text of § 1435.308 is revised to read as follows:

§ 1435.308 Transfer of allocation, new entrants.

(a) * * *

(b) Subject to a transfer of allocation, if any, described in paragraph (a) of this section being completed, CCC will permanently eliminate the processor's remaining allocation and distribute it to all other processors on a pro-rata basis when the processor:

* * * * *

Signed in Washington, DC, on August 4, 2004.
James R Little,
Executive Vice President, Commodity Credit Corporation.

[FR Doc. 04-18292 Filed 8-10-04; 8:45 am]

BILLING CODE 3410-05-P